DEPARTMENT OF HEALTH AND HUMAN SERVICES

Centers for Disease Control and Prevention

Mine Safety and Health Research Advisory Committee, National Institute for Occupational Safety and Health (MSHRAC, NIOSH)

In accordance with section 10(a)(2) of the Federal Advisory Committee Act (Pub. L. 92-463), the Centers for Disease Control and Prevention (CDC), announces the following meeting of the aforementioned committee:

Times and Dates: 8:30 a.m.-5:30 p.m., April 9, 2014; 8:30 a.m.-3:00 p.m., April 10, 2014.

Place: DoubleTree by Hilton, Pittsburgh Airport, 8402 University Boulevard, Moon Township, Pennsylvania 15108 Telephone: (412) 329-1400, Fax: (412) 329-1410.

Status: Open to public, limited only by the space available. The meeting room accommodates approximately 50 people.

Purpose: This committee is charged with providing advice to the Secretary, Department of Health and Human Services; the Director, CDC; and the Director, NIOSH, on priorities in mine safety and health research, including grants and contracts for such research, 30 U.S.C. 812(b)(2), Section 102(b)(2).

Matters for Discussion: The meeting will focus on mining safety and health research projects and outcomes, including program imperatives, e.g. respirable dust control, oxygen supply, explosion prevention, metal mine ground control, and health and safety management systems; and select project start-ups including source control of float dust, improving self-escape and a refuge chamber demonstration task. The meeting will also include updates from the National Personal Protective Technology Laboratory and the Division of Respiratory Disease Studies; and continuation of the discussions on Implementation of the National Academies Recommendations for continuous improvement of the mining research program.

Agenda items are subject to change as priorities dictate.

Contact Person For More Information: Jeffery L. Kohler, Ph.D., Designated Federal Officer, MSHRAC, NIOSH, CDC, 626 Cochrans Mill Road, Mailstop P05, Pittsburgh, Pennsylvania 15236, Telephone (412) 386-5301, Fax (412) 386-5300. The Director, Management Analysis and Services Office, has been delegated the authority to sign Federal Register Notices pertaining to announcements of meetings and other committee management activities, for both the Centers for Disease Control and Prevention and the Agency for Toxic Substances and Disease Registry.

Elaine L. Baker,
Director, Management Analysis and Services Office, Centers for Disease Control and Prevention (CDC).

[FR Doc. 2014-06454 Filed 3-24-14; 8:45 am]

BILLING CODE 4163-18-P